DEPARTMENT OF VETERANS AFFAIRS

Solicitation of Nominations for Appointment to the Veterans' Family, Caregiver and Survivor Advisory Committee

ACTION: Notice.

SUMMARY: The Department of Veterans Affairs (VA) is seeking nominations of qualified candidates to be considered for appointment to the Veterans' Family, Caregiver and Survivor Advisory Committee (hereinafter in this section referred to as “the Committee”).

DATES: Nominations for membership on the Committee must be received no later than 5:00 p.m. EST on July 1, 2019.

ADDRESSES: All nominations should be mailed to the Veterans Experience Office, Department of Veterans Affairs, 810 Vermont Avenue NW (30), Washington, DC 20420; or sent electronically to the Advisory Committee Management Office mailbox at vaadvisorycmte@va.gov.

FOR FURTHER INFORMATION CONTACT: Dr. Betty Moseley Brown, Designated Federal Officer, Veterans Experience Office, Department of Veterans Affairs, 810 Vermont Avenue NW (30), Washington, DC 20420, telephone (210) 392-2505 or via email at Betty.MoseleyBrown@va.gov.

SUPPLEMENTARY INFORMATION: The Veterans' Family, Caregiver, and Survivor Advisory Committee was established to advise the Secretary of VA on issues related to:

(1) Veterans' families, caregivers, and survivors across all generations, relationships, and Veteran status;

(2) The use of VA care, benefits and memorial services by Veteran's families, caregivers, and survivors, and possible adjustments to such care, benefits and memorial services;

(3) Veterans' family, caregiver, and survivor experiences, and VA policies, regulations, and administrative requirements related to the transition of Service members from the Department of Defense to enrollment in VA that impact Veteran's families, caregivers, and survivors; and

(4) Factors that influence access to quality of, and accountability for services and benefits for Veterans' families, caregivers, and survivors.

The Committee responsibilities include:

(1) Advising the Secretary on how VA can assist and represent Veterans' families, caregivers, and survivors, including recommendations regarding expanding services and benefits to Veterans' family members, caregivers, and survivors who are not currently served by VA, and related policy. Administrative, legislative, and/or regulatory actions.

(2) Advising the Secretary on incorporating lessons learned from current, and previous, successful family research and outreach efforts that measure the impact of provided care and benefits services on Veterans' family, caregivers, and/or survivors;

(3) Advising the Secretary on collaborating with family support programs within VA and engaging with other VA and non-VA advisory committees focused on specific demographics of Veterans and their families, caregivers, and survivors;

(4) Advising the Secretary on working with interagency, intergovernmental, private/non-profit, community, and faith-based organizations to identify and address gaps in services;

(5) Advising the Secretary on utilizing journey mapping or other means to depict the experience life cycle of families, caregivers, and survivors of Veterans to create a more holistic understanding of important life cycle events, moments that matter, and their impacts, and to ensure accountability;

(6) Advising the Secretary on Veterans' family, caregiver, and survivor experiences, and the impact of VA policies, regulations, and administrative requirements related to the transition of Service members from the Department of Defense to the enrollment of Veterans;

(7) Advising the Secretary on integrating Veterans' families, caregivers, and survivors into key VA initiatives such as access to care, suicide prevention, and homelessness; and

(8) Providing such reports as the Committee deems necessary, but not less than one report a per year, to the Secretary, through the Chief Veterans Experience Officer, Veterans Experience Office to describe the Committee's activities, deliberations, and findings, which may include but are not limited to: (1) Identification of current challenges and recommendations for remediation related to access to care, benefits and memorial services of Veterans' families, caregivers, and survivors; and (2) identification of current best practices in care and benefits delivery to Veterans' families, caregivers, and survivors, and the impact on such best practices.

Authority: The Committee was established by the directive of the Secretary of VA, in accordance with the provisions of the Federal Advisory Committee Act (FACA), as amended, 5 U.S.C., App. 2.

Membership Criteria and Qualifications: VA is requesting nominations for Committee membership. The Committee is composed of up to 20 members and several ex-officio members. The members of the Committee are appointed by the Secretary of Veteran Affairs from the general public, from various sectors and organizations, including but not limited to:

(1) Veteran's family members, caregivers, and survivors;

(2) Veteran-focused organizations;

(3) Military history and academic communities;

(4) National Association of State Directors of Veterans Affairs;

(5) The Federal Executive Branch;

(6) Research experts and service providers; and

(7) Leaders of key stakeholder associations and organizations.

In accordance with the Committee Charter, the Secretary shall determine the number (up to 20), terms of service, and pay and allowances of Committee members, except that a term of service of any such member may not exceed two years. The Secretary may reappoint any Committee member from additional terms of service.

To the extent possible, the Secretary seeks members who have diverse professional and personal qualifications including but not limited to subject matter experts in the areas described above.

We ask that nominations include any relevant experience information so that VA can ensure diverse Committee membership.

Requirements for Nomination Submission:

Nominations should be typed (one nomination per nominator). Nomination package should include:

(1) A letter of nomination that clearly states the name and affiliation of the nominee, the basis for the nomination (i.e. specific attributes which qualify the nominee for service in this capacity), and a statement from the nominee indicating a willingness to serve as a member of the Committee;

(2) The nominee's contact information, including name, mailing address, telephone numbers, and email address;

(3) The nominee's curriculum vitae, not to exceed three pages and a one-page cover letter; and

(4) A summary of the nominee's experience and qualifications relative to the membership consideration described above.

Individuals selected for appointment to the Committee shall be invited to serve a two-year term. Committee members will receive per diem and reimbursement for eligible travel expenses incurred.

The Department makes every effort to ensure that the membership of VA Federal advisory committees is diverse in terms of points of view represented and the committee's capabilities. Appointments to this Committee shall be made without discrimination because of a person's race, color, religion, sex, sexual orientation, gender identity, national origin, age, disability, or genetic information. Nominations must state that the nominee is willing to serve as a member of the Committee and appears to have no conflict of interest that would preclude membership. An ethics review is conducted for each selected nominee.

Dated: May 22, 2019.
Jelessa M. Burney,
Federal Advisory Committee Management Officer.

[FR Doc. 2019-11070 Filed 5-28-19; 8:45 am]

BILLING CODE P